DEPARTMENT OF COMMERCE

National Oceanic and Atmospheric Administration

[RTID 0648-XA066]

Endangered and Threatened Species; Take of Anadromous Fish

AGENCY: National Marine Fisheries Service (NMFS), National Oceanic and Atmospheric Administration (NOAA), Commerce.

ACTION: Notice of availability; of a proposed evaluation and pending determination (PEPD) for public comment.

SUMMARY: Notice is hereby given that a PEPD is available for public comment on three hatchery and genetic management plans (HGMPs) for Dungeness River hatchery programs submitted for review and determination under Endangered Species Act (ESA) Section 4(d), Limit 6 for Puget Sound Chinook salmon, Puget Sound steelhead, and Hood Canal summer chum salmon.

DATES: Comments must be received at the appropriate address (see ADDRESSES) no later than 5 p.m. Pacific time on April 8, 2020. Comments received after this date may not be considered.

ADDRESSES: Written comments should be addressed to Morgan Robinson, NMFS Sustainable Fisheries Division, 510 Desmond Dr. Lacey, WA 98503. Comments may be submitted by email. The mailbox address for providing email comments is: hatcheries.public.comment@noaa.gov. Include in the subject line of the email comment the following identifier: Comments on Dungeness River PEPD.

FOR FURTHER INFORMATION CONTACT: Morgan Robinson at (360) 534-9338 or by email at morgan.robinson@noaa.gov

SUPPLEMENTARY INFORMATION:

ESA-Listed Species Covered in This Notice

• Puget Sound Chinook Salmon (Oncorhynchus tshawytscha): Threatened, naturally and artificially propagated

• Puget Sound Steelhead (Oncorhynchus mykiss): Threatened, naturally and artificially propagated

• Hood Canal Summer Chum (Oncorhynchus keta): Threatened, naturally and artificially propagated

Background

NMFS has received three HGMPs for hatchery programs rearing and releasing Chinook salmon, coho salmon, and chum salmon in the Dungeness River basin, Washington. The three HGMPs were submitted pursuant to limit 6 of the Section 4(d) rule for salmon and steelhead. The hatchery programs are operated by Washington State Department of Fish and Wildlife in cooperation with the Jamestown S'Klallam Tribe.

The purpose of the hatchery programs is to contribute to the survival and recovery of Puget Sound Chinook Salmon, assist in developing information on exploitation rates, and support returns of coho salmon and chum salmon to the Dungeness River basin as well as contribute to the diet of Southern Resident Killer Whale (SRKW).

(Authority: 16 U.S.C. 1531 et seq.; 16 U.S.C. 742a et seq.)

Dated: March 3, 2020.
Angela Somma,
Chief, Endangered Species Division, Office of Protected Resources, National Marine Fisheries Service.

[FR Doc. 2020-04694 Filed 3-6-20; 8:45 am]

BILLING CODE 3510-22-P